DEPARTMENT OF COMMERCE

National Oceanic and Atmospheric Administration

[Docket Number 100115026-0026-01]

Science Advisory Board; Draft Report of the NOAA Science Advisory Board Oceans and Health Working Group

AGENCY: Office of Oceanic and Atmospheric Research (OAR), National Oceanic and Atmospheric Administration (NOAA), Department of Commerce (DOC).

ACTION: Notice of availability and request for public comment.

SUMMARY: NOAA Research (OAR) publishes this notice on behalf of the NOAA Science Advisory Board (SAB) to announce the availability of the draft report of the SAB Oceans and Health Working Group (here called the OHWG) for public comment. The draft report of the OHWG has been prepared pursuant to the request initiated from NOAA for an external panel of experts to explore opportunities to enhance NOAA's ongoing ocean health efforts and their impacts on ecosystem and public health and well-being.

DATES: Comments on this draft report must be received by 5 p.m. on February 25, 2010.

ADDRESSES: The Draft Report of the OHWG will be available on the NOAA Science Advisory Board Web site at http://www.sab.noaa.gov/Reports/ohwg.

The public is encouraged to submit comments electronically to noaa.sab.comments@noaa.gov. For individuals who do not have access to the Internet, comments may be submitted in writing to: NOAA Science Advisory Board (SAB) c/o Dr. Cynthia Decker, 1315 East-West Highway-R/SAB, Silver Spring, Maryland 20910.

FOR FURTHER INFORMATION CONTACT: Dr. Cynthia Decker, Executive Director, Science Advisory Board, NOAA, 1315 East-West Highway-R/SAB, Silver Spring, Maryland 20910. (Phone: 301-734-1156, Fax: 301-734-1459) during normal business hours of 9 a.m. to 5 p.m. Eastern Time, Monday through Friday, or visit the NOAA SAB Web site at http://www.sab.noaa.gov.

SUPPLEMENTARY INFORMATION: As part of its charge, the OHWG was tasked to consider the following questions and any others that the Working Group may decide to entertain:

(1) What are NOAA's unique and important scientific roles in addressing ocean health issues?

(2) What are the right ocean health science questions, products and services for NOAA?

(3) Are there additional ocean health science issues that should be included in the NOAA research portfolio? If so, what are these?

(4) What are the appropriate steps for NOAA to incorporate and advance ocean health as part of its core mission?

(5) How could NOAA more systematically develop ocean health products and services to enhance ecosystem, organism, human, and community health?

(6) How can NOAA better integrate among its major programs, including activities conducted within the agency and those supported in the external community, to better define and assess ocean health issues?

The complete terms of reference for the working group can be found at: http://www.sab.noaa.gov/Working_Groups/current/oceans_health/OCEANSHEALTH_TOR_FINAL.pdf.

The SAB is chartered under the Federal Advisory Committee Act and is the only Federal Advisory Committee with the responsibility to advise the Under Secretary on long- and short-term strategies for research, education, and application of science to resource management and environmental assessment and prediction.

NOAA welcomes all comments on the content of the draft report. We also request comments on any inconsistencies perceived within the report, and possible omissions of important topics or issues. This draft report is being issued for comment only and is not intended for interim use. For any shortcoming noted within the report, please propose specific remedies. Suggested changes will be incorporated where appropriate, and a final report will be posted on the SAB Web site.

Please follow these instructions for preparing and submitting comments. Using the format guidance described below will facilitate the processing of comments and assure that all comments are appropriately considered. Overview comments should be provided first and should be numbered. Comments that are specific to particular pages, paragraphs or lines of the section should follow any overview comments and should identify the page and line numbers to which they apply. Please number each page of your comments.

Dated: January 20, 2010.
Mark E. Brown,
Chief Financial Officer, Office of Oceanic and Atmospheric Research, National Oceanic and Atmospheric Administration.

[FR Doc. 2010-1417 Filed 1-25-10; 8:45 am]

BILLING CODE 3510-KD-P